DEPARTMENT OF COMMERCE

International Trade Administration

[A-421-811]

Purified Carboxymethylcellulose From the Netherlands: Final Results of Antidumping Duty Administrative Review

AGENCY: Import Administration, International Trade Administration, Department of Commerce.

SUMMARY: On August 10, 2010, the Department of Commerce (the Department) published its preliminary results in the antidumping duty administrative review of purified carboxymethylcellulose (CMC) from the Netherlands. See Purified Carboxymethylcellulose From the Netherlands; Preliminary Results of Antidumping Duty Administrative Review, 75 FR 48310 (August 10, 2010) (Preliminary Results). The merchandise covered by the order is purified CMC, as described in the “Scope of the Order” section of this notice. The period of review (POR) is July 1, 2008, through June 30, 2009. We afforded interested parties an opportunity to comment on the Preliminary Results. We received comments from interested parties on October 22, 2010, and, in light of these comments, have made changes to our margin calculations. Thus, the final results differ from those published in the Department's Preliminary Results. The final weighted-average dumping margins for the reviewed firms are listed below in the section entitled “Final Results of the Review.”

DATES: Effective Date: December 14, 2010.

FOR FURTHER INFORMATION CONTACT: Edythe Artman, Olga Carter, or Angelica Mendoza, AD/CVD Operations, Office 7, Import Administration, International Trade Administration, U.S. Department of Commerce, 14th Street and Constitution Avenue, NW., Washington, DC 20230; telephone: (202) 482-3931, (202) 482-8221, or (202) 482-3019, respectively.

SUPPLEMENTARY INFORMATION:

Background

On August 10, 2010, the Department published the preliminary results of the administrative review of the antidumping duty order on purified CMC from the Netherlands. See Preliminary Results at 48310. The respondents under review are Akzo Nobel Functional Chemicals B.V. (ANFC) and CP Kelco B.V. (CP Kelco). The petitioner in this proceeding is Aqualon Company, a unit of Hercules Inc. We invited interested parties to comment on the Preliminary Results following the release of all verification reports. See Preliminary Results at 48318.

On September 29, 2010, the Department released the home-market sales verification report for ANFC and, on October 13, 2010, we released the U.S. sales verification report for this company. We did not verify the responses of CP Kelco in the current review.

On October 22, 2010, ANFC submitted a case brief and CP Kelco submitted a letter in lieu of a case brief. The petitioner did not file any comments on the preliminary results of review and no party requested a hearing concerning the review.

Scope of the Order

The merchandise covered by the order is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent. The merchandise subject to the order is classified in the Harmonized Tariff Schedule of the United States at subheading 3912.31.00. This tariff classification is provided for convenience and customs purposes; however, the written description of the scope of the order is dispositive.

Analysis of Comments Received

All issues raised in ANFC's case brief and CP Kelco's letter in lieu of a case brief are addressed in the “Issues and Decision Memorandum for the Final Results of the 2008/2009 Antidumping Duty Administrative Review of Purified Carboxymethylcellulose from the Netherlands,” from Gary Taverman, Acting Deputy Assistant Secretary for Antidumping and Countervailing Duty Operations, to Paul Piquado, Acting Deputy Assistant Secretary for Import Administration, dated December 8, 2010 (Issues and Decision Memorandum), and hereby adopted by this notice. A list of the issues raised, all of which are in the Issues and Decision Memorandum, is attached to this notice as Appendix I. A copy of the Issues and Decision Memorandum will be placed on the official file of this review, which is located in the Central Records Unit (CRU), room 7046 of the main Department of Commerce building. In addition, a complete version of the Issues and Decision Memorandum can be accessed directly on the Internet at http://www.trade.gov/ia/. The paper copy and electronic version of the Issues and Decision Memorandum are identical in content.

Changes Since the Preliminary Results

Based on our analysis of the comments received from ANFC, we have made changes to its margin calculations for the final results. The Department changed the assignment of product characteristics to the variable “CMCHAR” from U.S. product characteristics to home-market product characteristics. This change is consistent with our model-matching methodology and will ensure that sales in the U.S. market are compared to home-market sales of the identical or similar models. We also have changed the calculation of movement expenses so that warehousing expenses are only included in domestic movement expenses (i.e., they have been removed from the calculation of international movement expenses). Finally, we have reviewed ANFC's comments with respect to the inventory carrying costs incurred in the United States and agree that no such costs were incurred on “Channel-1” sales—those sales in which the product was shipped directly from the production facility or warehouse in the Netherlands to the U.S. customer. Thus, we have modified our recalculation of inventory carrying costs incurred in the United States in the margin calculation program to exclude Channel-1 sales. For a more detailed discussion of the changes made to ANFC's calculations, see “Memorandum to the File: Final Results of Antidumping Duty Administrative Review of Purified Carboxymethylcellulose from the Netherlands: Analysis of the Sales Responses Submitted by Akzo Nobel Functional Chemicals B.V.,” from Olga Carter, International Trade Compliance Analyst, to the File, dated December 8, 2010. A public version of this memorandum is on file in the CRU.

In addition, we made changes to the programs used to calculate ANFC's margin based on our own review of the record following the issuance of the Preliminary Results. First, in light of a finding discovered at ANFC's home-market sales verification, we have corrected the entry date of one U.S. sale. Specifically, in our margin-calculation program, we have entered the verified date of entry for this sale (and, as described below, are recalculating the inventory carrying costs for this sale, as we are for all sales). Second, subsequent to the issuance of the Preliminary Results, we noticed that a minor correction relating to one sale was not reflected in ANFC's most-recently submitted U.S. sales database.¹ Consequently, for this sale, we entered the verified date of entry and amount of U.S. duties incurred on the sale in the margin-calculation program. Lastly, we noticed an oversight in our preliminary margin calculations in that, having made an adjustment to the manufacturing costs of all products, we failed to recalculate the inventory carrying costs incurred in the Netherlands on both home-market and U.S. sales.² See the memorandum on “Cost of Production and Constructed Value Calculation Adjustments for the Preliminary Results—Akzo Nobel Functional Chemicals B.V.,” from Frederick W. Mines, Accountant, to Peter S. Scholl, Lead Accountant, dated August 2, 2010. Thus, we have corrected this oversight for the final results by modifying the comparison-market and margin-calculation programs to recalculate the inventory carrying costs that ANFC incurred in the Netherlands.

¹ This database and the most-recently submitted home-market sales database reflected all other minor corrections and revisions requested by the Department at verification and were used to calculate CP Kelco's preliminary dumping margin.

² The adjustment to manufacturing costs, upon which inventory carrying costs are based, would also make it necessary to recalculate the inventory carrying costs incurred in the United States except that we already inserted the programming language for this recalculation in ANFC's margin-calculation program for the preliminary results. We made this earlier change based on our finding that these costs should be calculated by using the U.S. interest rate. See “Analysis of Data Submitted by Akzo Nobel Functional Chemicals B.V. (ANFC) and Akzo Nobel Functional Chemicals LLC (AN-US) in the Preliminary Results of the 2008-2009 Administrative Review of the Antidumping Duty Order on Purified Carboxymethylcellulose (CMC) from the Netherlands,” from Olga Carter and Edythe Artman, International Trade Compliance Analysts, to the File, dated August 2, 2010, at 10.

With respect to CP Kelco, we reviewed the company's comment that language in our margin-calculation program, used to recalculate U.S. indirect selling expenses incurred in the home market, resulted in an inadvertent mathematical error. As suggested by the respondent, we have modified the programming language so that the gross unit price of a sale is now added to any billing adjustments of the sale before the selling-expense factor is applied to the sum of these two amounts. This change is detailed in the “CP Kelco B.V.—Analysis Memorandum for the Final Results of the 2008/2009 Antidumping Duty Administrative Review of Purified Carboxymethylcellulose from the Netherlands,” from Edythe Artman, International Trade Compliance Analyst, to the File, dated December 8, 2010. A public version of this memorandum is on file in the CRU.

Final Results of the Review

We determine the following percentage weighted-average margins to exist for the period July 1, 2008, through June 30, 2009:

Manufacturer/Exporter | Weighted-average margin (percentage)
ANFC | 9.06
CP Kelco B.V. | 2.64

Assessment

The Department shall determine, and U.S. Customs and Border Protection (CBP) shall assess, antidumping duties on all appropriate entries. In accordance with 19 CFR 351.212(b)(1), the Department normally calculates an assessment rate for each importer of the subject merchandise covered by the review. In this review, we have calculated, whenever possible, an exporter/importer (or customer)-specific assessment rate or value for merchandise subject to this review as described below.

With respect to export-price sales (i.e., sales directly to the unaffiliated purchaser in the United States) for these final results, we divided the total dumping margins (calculated as the difference between normal value and export price) for each exporter's importer or customer by the total number of units the exporter sold to that importer or customer. We will direct CBP to assess the resulting per-unit dollar amount against each unit of merchandise in each of that importer's/customer's POR entries.

For constructed-export-price sales (e.g., sales through ANFC's U.S. affiliate to the unaffiliated purchaser in the United States), we divided the total dumping margins for the reviewed sales by the total entered value of those reviewed sales for each importer. We will direct CBP to assess the resulting percentage margin against the entered customs values for the subject merchandise on each of that importer's POR entries. See 19 CFR 351.212(b).

The calculated per-unit values or ad valorem rates, as appropriate, will be assessed uniformly on all entries made by the respective importers during the POR. Where the assessment rate is above de minimis, we will instruct CBP to assess duties on all entries of subject merchandise by that importer.

The Department clarified its “automatic assessment” regulation on May 6, 2003. This clarification will apply to entries of subject merchandise during the POR produced by reviewed companies for which these companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

The Department intends to issue assessment instructions directly to CBP 15 days after publication of these final results of review.

Cash Deposit Requirements

The following cash-deposit requirements will be effective upon publication of this notice of final results of administrative review for all shipments of purified CMC from the Netherlands entered, or withdrawn from warehouse, for consumption on or after the date of publication, as provided by section 751(a)(2)(C) of the Tariff Act of 1930, as amended (the Act): (1) The cash-deposit rates for ANFC and CP Kelco will be the rates established in the final results of this review; (2) for previously reviewed or investigated companies not covered in this review, the cash deposit rate will continue to be the company-specific rate published for the most recent period; (3) if the exporter is not a firm covered in this or any previous review or in the less-than-fair-value (LTFV) investigation but the manufacturer is, the cash-deposit rate will be the rate established for the most recent period for the manufacturer of the merchandise; and (4) if neither the exporter nor the manufacturer is a firm covered in this or any previous review or the investigation, the cash-deposit rate will continue to be the all-others rate of 14.57 percent, which is the all-others rate established by the Department in the LTFV investigation. See Notice of Antidumping Duty Orders: Purified Carboxymethylcellulose from Finland, Mexico, the Netherlands and Sweden, 70 FR 39734 (July 11, 2005). These cash-deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Orders

This notice also serves as a reminder to parties subject to administrative protective orders (APO) of their responsibility concerning the return or destruction of proprietary information disclosed under APO in accordance with 19 CFR 351.305(a)(3). Timely, written notification of the return or destruction of APO materials or conversion to judicial protective order is hereby requested. Failure to comply with the regulations and terms of an APO is a violation that is subject to sanction.

We are issuing and publishing this notice in accordance with sections 751(a)(1) and 777(i)(1) of the Act.

Dated: December 8, 2010.
Paul Piquado,
Acting Deputy Assistant Secretary for Import Administration.

Appendix I—Comments in the Issues and Decision Memorandum

Clerical Errors

Comment 1: Physical Characteristic Codes of Comparison-Market Sales.

Comment 2: Double-counting of Warehousing Expenses Incurred in the Country of Manufacture.

Comment 3: Inventory Carrying Costs Incurred in the United States on Certain Sales.

Comment 4: Calculation of U.S. Indirect Selling Expenses Incurred in the Country of Manufacture.

[FR Doc. 2010-31369 Filed 12-13-10; 8:45 am]

BILLING CODE 3510-DS-P